DEPARTMENT OF TRANSPORTATION

Federal Aviation Administration

14 CFR Part 71

[Docket No. FAA-2009-1141; Airspace Docket No. 09-AWP-12]

Amendment of Class D and E Airspace; Yuma, AZ

AGENCY: Federal Aviation Administration (FAA), DOT.

ACTION: Final rule.

SUMMARY: This action will modify existing Class D and Class E airspace in the Yuma, AZ, area to accommodate aircraft arriving and departing Somerton Airport, Somerton, AZ. This action will also make a minor correction to the legal description for Somerton Airport and Yuma MCAS-Yuma International Airport and will enhance the safety and management of aircraft operations at both airports.

DATES: Effective date, 0901 UTC, September 23, 2010. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA, 98057; telephone (425) 203-4537.

SUPPLEMENTARY INFORMATION:

History

On March 25, 2010, the FAA published in the Federal Register a notice of proposed rulemaking to modify Class D and E airspace at Yuma, AZ (75 FR 14382). Interested parties were invited to participate in this rulemaking effort by submitting written comments on the proposal to the FAA. No comments were received.

Class D and E airspace designations are published in paragraph 5000 and 6002 respectively, of FAA Order 7400.9T signed August 27, 2009, and effective September 15, 2009, which is incorporated by reference in 14 CFR part 71.1. The Class D and E airspace designations listed in this document will be published subsequently in that Order.

The Rule

This action amends Title 14 Code of Federal Regulations (14 CFR) part 71 by modifying Class D airspace, and Class E airspace designated as surface area in the Yuma, AZ, area. The Yuma MCAS-Yuma International Airport airspace area will be modified to ensure the containment of aircraft arriving and departing Somerton Airport, Somerton, AZ. This action enhances the safety and management of instrument flight rules operations in the Yuma, AZ, area. This action will also make a minor correction to the legal description for both Class D and E airspace to coincide FAA's National Aeronautical Charting Office.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Yuma, AZ.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9T, Airspace Designations and Reporting Points, signed August 27, 2009, and effective September 15, 2009 is amended as follows:

Paragraph 5000 Class D airspace.

* * * * *

AWP AZ D Yuma, AZ [Modified]

Yuma MCAS-Yuma International Airport, AZ

(Lat. 32°39′24″ N., long. 114°36′22″ W.)

Somerton, Somerton Airport, AZ

(Lat. 32°36′03″ N., long. 114°39′57″ W.)

That airspace extending upward from the surface to and including 2,700 feet MSL within a 5.2-mile radius of Yuma MCAS-Yuma International Airport, excluding that airspace from the surface up to and including 300 feet above the surface from lat. 32°36′52″ N., long. 114°41′44″ W.; thence east to lat. 32°36′52″ N., long. 114°39′30″ W.; thence south to lat. 32°34′55″ N., long. 114°39′30″ W.; thence clockwise along the 5.2-mile radius to the point of beginning. This Class D airspace area is effective during the specific dates and times established in advance by a Notice to Airmen. The effective date and time will thereafter be continuously published in the Airport/Facility Directory.

Paragraph 6002 Class E airspace designated as surface areas.

* * * * *

AWP AZ E2 Yuma, AZ [Modified]

Yuma MCAS-Yuma International Airport, AZ

(Lat. 32°39′24″ N., long. 114°36′22″ W.)

Somerton, Somerton Airport, AZ

(Lat. 32°36′03″ N., long. 114°39′57″ W.)

That airspace, within a 5.2-mile radius of Yuma MCAS/Yuma International Airport, excluding that airspace from the surface up to and including 300 feet above the surface from lat. 32°36′52″ N., long. 114°41′44″ W.; thence east to lat. 32°36′52″ N., long. 114°39′30″ W.; thence south to lat. 32°34′55″ N., long. 114°39′30″ W.; thence clockwise along the 5.2-mile radius to the point of beginning. The Class E airspace area is effective during the specific dates and times established in advance by a Notice to Airmen. The effective date and time will thereafter be continuously published in the Airport/Facility Directory.

Issued in Seattle, Washington, on June 24, 2010.
John Warner,
Manager, Operations Support Group, Western Service Center.

[FR Doc. 2010-16484 Filed 7-7-10; 8:45 am]

BILLING CODE 4910-13-P